DEPARTMENT OF HEALTH AND HUMAN SERVICES

Announcement of Requirements and Registration for “Blue Button Co-Design Challenge”

AGENCY: Office of the National Coordinator for Health Information Technology, HHS.

ACTION: Notice.

Award Approving Official: Farzad Mostashari, National Coordinator for Health Information Technology.

SUMMARY: Blue Button Plus represents the technical standards and policy levers that help patients make use of their clinical and financial data in technology such as personal health records and health apps. All patients whose providers use Meaningful Use Stage 2 certified technology have the ability to view, download, and securely transmit their clinical data from their provider's Electronic Health Record into another product or holding place of their choice. This is an enormous opportunity for patient-facing, data receiver applications that previously struggled to collect complete and accurate clinical data without manual patient entry.

As part of the Department of Health and Human Services digital services strategy, the Office of the National Coordinator for Health Information Technology (ONC) is launching the Blue Button Co-Design Challenge, intended to increase the number of priority patient-facing applications able to receive clinical data via Blue Button Plus. The Challenge will also uniquely engage the patient community to teach us what patients most want to do with their clinical data by crowdsourcing application ideas and incorporating patients in product design.

The Blue Button Co-Design Challenge builds upon previous ONC activities to support consumer health and patient access to their data. These include Challenges such as Blue Button for All Americans, the Blue Button Mash Up Challenge, and the Health Design Challenge.

The statutory authority for this challenge competition is Section 105 of the America COMPETES Reauthorization Act of 2010 (Pub. L. 111-358).

DATES: Patient Applications category:

• June 3: Challenge announced at Health DataPalooza

• August 5: End of Patient Applications submission period

• September: Announce Patient Applications winners

Open Source Developer Tools category:

• June 3: Challenge announced at Health DataPalooza

• July 8: End of Developer Tools submission period

• July 22-26: Announce Developer Tools winners

FOR FURTHER INFORMATION CONTACT: Adam Wong, 202-720-2866.

SUPPLEMENTARY INFORMATION:

Subject of Challenge Competition

The goals of the Blue Button Co-Design Challenge are:

• Build support for Blue Button Plus by engaging three crucial communities:

a. Patients through crowd sourcing of application ideas, co-design, and public voting on winning products

b. Companies and application builders through a public competition and prize money

c. Developers by rewarding open source developer tools that make it easier to build Blue Button Plus enabled applications

• Expand our understanding of how patients want to use their clinical data, and what products they want to see developed.

• Increase the number of fully enabled, Blue Button Plus tools and applications in areas of high priority for patients.

In order to accomplish these goals, the challenge will award prizes in two separate categories:

1. The Patient Applications category will use crowd sourced application ideas as the topics for application development. From the launch of the challenge to June 7, anyone may post ideas for applications (no more than 75 words), focusing on the use of patient data enabled by Blue Button, on the ideation forum. Concurrently, the public will have until June 11 to vote on their favorite ideas, the top three of which will be announced as the topics for the patient applications and integrated into the submission review criteria. Submissions must be posted on a co-design Web site where entrants will participate in the co-design process, incorporating public input and feedback with potential end users, patients, and patient advocates. First, second, and third place awards will be given to the three best applications.

To be eligible to receive a prize, applications submitted must:

• Demonstrate use of Blue Button Plus to receive patient clinical or financial data into an existing or new application

• Display the Blue Button logo

• Include a slide deck that describes how patients would use this application, which of the crowdsourced product ideas inspired this application, and how patient co-design impacted the final product.

2. The Open Source Developer Tools category is intended to ease the implementation of Blue Button Plus for future applications, and engage developers around standards such as consolidated CDA and DIRECT. Three winners will receive awards and the winning tools will be made available through open source licenses.

Eligibility Rules for Participating in the Competition

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this challenge participants can access either the http://www.challenge.gov Web site and search for the challenge's title, or the ONC Investing in Innovation Challenge Web site at http://www.health2con.com/devchallenge/challenges/onc-i2-challenges/.

Amount of the Prize

• Total prizes: $50,000

• Patient Applications:

○ First Place: $20,000

○ Second Place: $10,000

○ Third Place: $5,000

• Developer Tools: $5,000 each to the three best solutions

Awards may be subject to Federal income taxes and HHS will comply with IRS withholding and reporting requirements, where applicable.

Payment of the Prize

Prize will be paid by contractor.

Basis Upon Which Winner Will Be Selected

The review panel will make selections based upon the following criteria:

Open Source Developer Tools

• Code readability, maintainability, and extensibility

• Quality of code documentation

• Value added by the tool

The winners of the Patient Applications category will be determined by a combination of the review panel (two-thirds) and public voting (one-third); public voting will be enabled on the co-design site upon closing of the submission period on August 5.

Patient Applications

• Innovative use and integration of Blue Button Plus

• Innovative use of Blue Button patient data

• Application design and ease-of-use

• Relevance to crowd-sourced ideas and participation in co-design

In order for an entry to be eligible to win this Challenge, it must meet the following requirements:

1. General—Contestants must provide continuous access to the application, a detailed description of the application, instructions on how to install and operate the application, and system requirements required to run the application (collectively, “Submission”).

2. Blue Button Plus—Blue Button Plus must be fully enabled within the application, and the Blue Button logo displayed.

3. HHS, ONC logo—The tool must not use HHS' or ONC's logos or official seals in the Submission, and must not claim endorsement.

4. Acceptable platforms—The tool must be designed for use with existing web, mobile, voice, electronic health record, or other platform for supporting interactions of the content provided with other capabilities.

5. Section 508 Compliance—Contestants must acknowledge that they understand that, as a pre-requisite to any subsequent acquisition by FAR contract or other method, they may be required to make their proposed solution compliant with Section 508 accessibility and usability requirements at their own expense. Any electronic information technology that is ultimately obtained by HHS for its use, development, or maintenance must meet Section 508 accessibility and usability standards. Past experience has demonstrated that it can be costly for solution-providers to “retrofit” solutions if remediation is later needed. The HHS Section 508 Evaluation Product Assessment Template, available at http://www.hhs.gov/web/508/contracting/technology/vendors.html, provides a useful roadmap for developers to review. It is a simple, web-based checklist utilized by HHS officials to allow vendors to document how their products do or do not meet the various Section 508 requirements.

6. Functionality/Accuracy—A Submission may be disqualified if the application fails to function as expressed in the description provided by the user, or if the application provides inaccurate or incomplete information.

7. Security—Submissions must be free of malware. Contestant agrees that ONC may conduct testing on the application to determine whether malware or other security threats may be present. ONC may disqualify the application if, in ONC's judgment, the application may damage government or others' equipment or operating environment.

Additional Information

Ownership of intellectual property is determined by the following:

• Patient Application category entrants retain title and full ownership in and to their submission. Entrants expressly reserve all intellectual property rights not expressly granted under the challenge agreement.

• Developer Tools category entrants are required to post their tools on GitHub to be made available via open source.

• By participating in the challenge, each entrant hereby irrevocably grants to Sponsor and Administrator a limited, non-exclusive, royalty-free, worldwide license and right to reproduce, publically perform, publically display, and use the Submission to the extent necessary to administer the challenge, and to publically perform and publically display the Submission, including, without limitation, for advertising and promotional purposes relating to the challenge.

Authority: 15 U.S.C. 3719

Dated: May 28, 2013.
Farzad Mostashari,
National Coordinator for Health Information Technology.

[FR Doc. 2013-13128 Filed 6-3-13; 8:45 am]

BILLING CODE 4150-45-P